FEDERAL MARITIME COMMISSION

[Docket No. 23-13]

USL AUTO EXPORTING INC., Complainant v. EASY SHIPPING CORPORATION, Respondent; Notice of Filing of Complaint and Assignment

Served: December 4, 2023.

Notice is given that a complaint has been filed with the Federal Maritime Commission (the “Commission”) by USL Auto Exporting Inc. (the “Complainant”) against Easy Shipping Corporation (the “Respondent”). Complainant states that the Commission has subject matter jurisdiction over the complaint and personal jurisdiction over the Respondent pursuant to the Shipping Act of 1984, as amended, 46 U.S.C. 40101 et seq.

Complainant is a North Carolina limited liability company with a principal place of business in Charlotte, North Carolina.

Complainant identifies Respondent as a corporation existing under the laws of the state of Illinois with a principal place of business in Calumet Park, Illinois.

Complainant alleges that Respondent violated 46 U.S.C. 44102(c) regarding a failure to establish, observe, and enforce just and reasonable practices relating to receiving, handling, storing, and delivering property. Complainant alleges these violations arose from a misdeclaration in the shipping instructions; a failure to file a declaration for a returned container; and a failure to pay assessed fees.

An answer to the complaint must be filed with the Commission within 25 days after the date of service.

The full text of the complaint can be found in the Commission's electronic Reading Room at https://www2.fmc.gov/readingroom/proceeding/23-13/. This proceeding has been assigned to the Office of Administrative Law Judges. The initial decision of the presiding judge shall be issued by December 4, 2024, and the final decision of the Commission shall be issued by June 18, 2025.

Alanna Beck,
Federal Register Alternate Liaison Officer, Federal Maritime Commission.

[FR Doc. 2023-26904 Filed 12-6-23; 8:45 am]

BILLING CODE 6730-02-P